DEPARTMENT OF LABOR

Occupational Safety and Health Administration

[Docket No. NRTL2-92]

Canadian Standards Association; Application for Expansion of Recognition

AGENCY: Occupational Safety and Health Administration (OSHA), Labor.

ACTION: Notice.

SUMMARY: This notice announces the application of Canadian Standards Association (CSA) for expansion of its recognition, and presents the Agency's preliminary finding in favor of granting this request. This preliminary finding does not constitute an interim or temporary approval of this application.

DATES: You must submit information or comments, or any request for extension of the time to comment, by the following dates:

• Hard copy: Postmarked or sent by October 23, 2006.

• Electronic transmission or facsimile: Sent by October 23, 2006.

ADDRESSES: You may submit information or comments to this notice—identified by docket number NRTL2-92—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL2-92, U.S. Department of Labor, 200 Constitution Avenue, NW., Room N-2625, Washington, DC 20210; telephone (202) 693-2350. (OSHA's TTY number is (877) 889-5627). OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, 200 Constitution Avenue, NW., Room N-3655, Washington, DC 20210. Or, fax to (202) 693-1644.

FOR FURTHER INFORMATION CONTACT: Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Application

The Occupational Safety and Health Administration (OSHA) hereby gives notice that Canadian Standards Association (CSA) has applied for expansion of its current recognition as a Nationally Recognized Testing Laboratory (NRTL). CSA's expansion request covers the use of additional test standards. OSHA's current scope of recognition for CSA may be found in the following informational Web page: http://www.osha.gov/dts/otpca/nrtl/csa.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to CSA's recognition granted an expansion of recognition, which became effective on August 26, 2003 (68 FR 51303).

The current addresses of the CSA facilities already recognized by OSHA are:

Canadian Standards Association, 178 Rexdale Boulevard (Toronto), Etobicoke, ON M9W 1R3, Canada;

CSA International, Pointe-Claire (Montreal), 865 Ellingham Street, Pointe-Claire, PQ H9R 5E8, Canada;

CSA International, Richmond (Vancouver), 13799 Commerce Parkway, Richmond, BC V6V 2N9, Canada;

CSA International, Edmonton, 1707-94th Street, Edmonton, AB T6N 1E6, Canada;

CSA International, Irvine, 2805 Barranca Parkway, Irvine, CA 92606; and

CSA International, Cleveland, 8501 East Pleasant Valley Road, Cleveland, OH 44131

General Background on the Application

CSA submitted an application, dated July 5, 2005, (see Exhibit 34-1) to, among other things, expand its recognition to include 12 additional test standards. The NRTL Program staff has determined that nine of these standards are individually an “appropriate test standard” within the meaning of 29 CFR 1910.7(c). However, one of these standards is already included in CSA's scope. Therefore, OSHA would approve eight test standards for the expansion.

CSA seeks recognition for testing and certification of products for demonstration of conformance to the following test standards:

UL 568 Nonmetallic Cable Tray Systems

FM 3810 Electrical and Electronic Test, Measuring, and Process Control Equipment

UL 61010A-2-010 Electrical Equipment for Laboratory Use; Part 2: Particular Requirements for Laboratory Equipment for the Heating of Materials

UL 61010A-2-041 Electrical Equipment for Laboratory Use; Part 2: Particular Requirements for Autoclaves Using Steam for the Treatment of Medical Materials and for Laboratory Processes

UL 61010A-2-042 Electrical Equipment for Laboratory Use; Part 2: Particular Requirements for Autoclaves and Sterilizers Using Toxic Gas for the Treatment of Medical Materials, and for Laboratory Processes

UL 61010A-2-051 Electrical Equipment for Laboratory Use; Part 2: Particular Requirements for Laboratory Equipment for Mixing and Stirring

UL 61010A-2-061 Electrical Equipment for Laboratory Use; Part 2: Particular Requirements for Laboratory Atomic Spectrometers with Thermal Atomization and Ionization

UL 61010B-2-031 Electrical Equipment for Measurement, Control, and Laboratory Use; Part 2: Particular Requirements for Hand-Held Probe Assemblies for Electrical Measurement and Test

The designations and titles of the above test standards were current at the time of the preparation of this notice.

OSHA's recognition of CSA, or any NRTL, for a particular test standard is limited to equipment or materials (i.e., products) for which OSHA standards require third-party testing and certification before use in the workplace. Consequently, if a test standard also covers any product(s) for which OSHA does not require such testing and certification, an NRTL's scope of recognition does not include that product(s).

Many test standards listed above also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

CSA has submitted an acceptable request for expansion of its recognition as an NRTL. In connection with this request, OSHA did not perform an on-site review of CSA's NRTL testing facilities. However, NRTL Program assessment staff reviewed information pertinent to the request and recommended that CSA's recognition be expanded to include the additional test standards listed above (see Exhibit 34-2). Our review of the application file, the assessor's recommendation, and other pertinent documents indicate that CSA can meet the requirements, as prescribed by 29 CFR 1910.7, for the expansion for the additional test standards listed above. This preliminary finding does not constitute an interim or temporary approval of the application.

OSHA welcomes public comments, in sufficient detail, as to whether CSA has met the requirements of 29 CFR 1910.7 for expansion of its recognition as an NRTL. Your comments should consist of pertinent written documents and exhibits. Should you need more time to comment, you must request it in writing, including reasons for the request. OSHA must receive your written request for extension at the address provided above no later than the last date for comments. OSHA will limit any extension to 30 days, unless the requester justifies a longer period. You may obtain or review copies of CSA's requests, the assessor's recommendation, and all submitted comments, as received, by contacting the Docket Office, Room N-2625, Occupational Safety and Health Administration, U.S. Department of Labor, at the above address. Docket No. NRTL2-92 contains all materials in the record concerning CSA's application.

The NRTL Program staff will review all timely comments and, after resolution of issues raised by these comments, will recommend whether to grant CSA's expansion request. The Assistant Secretary will make the final decision on granting the expansion and, in making this decision, may undertake other proceedings that are prescribed in Appendix A to 29 CFR 1910.7. OSHA will publish a public notice of this final decision in the Federal Register.

Signed at Washington, DC, this 25th day of September, 2006.
Edwin G. Foulke, Jr.,
Assistant Secretary.

[FR Doc. E6-16587 Filed 10-5-06; 8:45 am]

BILLING CODE 4510-26-P